Proclamation 8558 of September 10, 2010

National Days of Prayer and Remembrance, 2010

By the President of the United States of America

A Proclamation

In commemoration of the tragedies of September 11, 2001, we come together as Americans each September to honor the memory of the women, men, and children lost in New York City, in rural Pennsylvania, and at the Pentagon. We renew our commitment to those who lost the comfort and companionship of loved ones and friends in those moments, and we mourn with them.

This year’s National Days of Prayer and Remembrance are a time to express our everlasting gratitude for the countless acts of valor on September 11, 2001, and in the dark days that followed. Innocent men and women were beginning a routine day at work on a beautiful September morning when they tragically lost their lives in a horrific moment of violence. We are forever indebted to the firefighters, police officers, and other first responders who put their lives on the line to help evacuate and rescue individuals trapped in offices and elevators. Rushing into chaos and burning buildings, many gave their lives so others might live. We continue to draw inspiration from the unflagging service rendered by volunteers who contributed to the recovery effort, including civilians and servicemembers.

At this somber time, we also pause to remember the sacrifices of the men and women in uniform who have lost their lives serving in Iraq, Afghanistan, and elsewhere, while promoting freedom and security. When their country faced crisis and uncertainty, a new generation of Americans stepped forward and volunteered to serve. Their selfless contributions are immeasurable and must never be forgotten. We honor the members of America’s Armed Forces who have left the comfort of home to protect our Nation. We pray for their protection from every danger as they carry out their vital missions.

At a time of national tragedy, we relied upon the strength and resilience that has marked the pages of American history. Many Americans turned to God, and lifted up their fellow Americans in prayer. On these solemn days, let us remember that from the destruction of that morning, we came together as a people and a country, united in our grief and joined in common purpose to save, serve, and rebuild. The legacy of the lives lost nine Septembers ago and in defense of our Nation—of husbands and fathers, wives and mothers, cherished children, and dear friends and loved ones—reinforces our resolve to unite with one another, for the country we all love and the values for which we stand.

NOW, THEREFORE, I, BARACK OBAMA, President of the United States of America, by virtue of the authority vested in me by the Constitution and the laws of the United States, do hereby proclaim Friday, September 10, through Sunday, September 12, 2010, as National Days of Prayer and Remembrance. I ask that the people of the United States honor and remember the victims of September 11, 2001, and their loved ones through prayer, contemplation, memorial services, the visiting of memorials, the ringing of bells, evening candlelight remembrance vigils, and other appropriate ceremonies and activities. I invite people around the world to participate in this commemoration.

IN WITNESS WHEREOF, I have hereunto set my hand this tenth day of September, in the year of our Lord two thousand ten, and of the Independence of the United States of America the two hundred and thirty-fifth.

[FR Doc. 2010-23199

Filed 9-14-10; 11:15 am]

Billing code 3195-W0-P